ENVIRONMENTAL PROTECTION AGENCY

[EPA-HQ-OPP-2024-0007; FRL-12027-01-OCSPP]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2023, to March 31, 2024, to control unforeseen pest outbreaks.

FOR FURTHER INFORMATION CONTACT: Charles Smith, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed after FOR FURTHER INFORMATION CONTACT.

B. How can I get copies of this document and other related information?

The docket for this action, identified by docket identification (ID) number EPA-HQ-OPP-2024-0007 is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

California

Department of Pesticide Regulation

Specific exemption: EPA authorized the use of kasugamycin on a maximum of 102,143 acres of almond trees to control bacterial blast. A time-limited tolerance in connection with a past action has been established in 40 CFR 180.614(b). The authorization was effective February 1, 2024, to April 15, 2024.

Colorado

Department of Agriculture

Specific exemption: EPA authorized the use of metamitron on a maximum of 23,468 acres of sugar beets for pre-emergence control of the invasive Amaranthus (pigweed) spp., Palmer amaranth. Because an unregistered pesticide was requested, a Notice of Receipt (NOR), with opportunity for public comment (required by 40 CFR 166.24), published in the Federal Register on September 28, 2023 (88 FR 66842) (FRL-11396-01-OCSPP). The public comment period closed on October 13, 2023. Two public comments were received: one in favor and one objecting to the use. EPA posted a document addressing the comments to the docket for the NOR, as well as EPA's evaluations and risk assessments associated with the use, which may be accessed at https://www.regulations.gov/docket/EPA-HQ-OPP-2023-0463. EPA authorized the emergency exemption for this use after determining that the use would not result in any risks of concern to human health or the environment, and concluding that an urgent, nonroutine situation existed with significant economic losses expected without the use. The authorization was effective December 14, 2023 to August 31, 2024.

Massachusetts

Department of Agriculture and Resources

Specific exemption: EPA authorized the use of pronamide on a maximum of 5,000 acres of cranberries to control dodder. A time-limited tolerance in connection with this action has been established in 40 CFR 180.317(b). The specific exemption was authorized on January 24, 2024, and effective April 15, 2024, to June 30, 2024.

Nebraska

Department of Agriculture

Specific exemption: EPA authorized the use of metamitron on a maximum of 47,128 acres of sugar beets for pre-emergence control of the invasive Amaranthus (pigweed) spp., Palmer amaranth. Because an unregistered pesticide was requested, a Notice of Receipt (NOR), with opportunity for public comment (required by 40 CFR 166.24), published in the Federal Register on September 28, 2023 (88 FR 66842) (FRL-11396-01-OCSPP). The public comment period closed on October 13, 2023. Two public comments were received: one in favor and one objecting to the use. EPA posted a document addressing the comments to the docket for the NOR, as well as EPA's evaluations and risk assessments associated with the use, which may be accessed at https://www.regulations.gov/docket/EPA-HQ-OPP-2023-0463. EPA authorized the emergency exemption for this use after determining that the use would not result in any risks of concern to human health or the environment, and concluding that an urgent, nonroutine situation existed with significant economic losses expected without the use. The authorization was effective December 14, 2023 to August 31, 2024.

B. Federal Departments and Agencies

United States Department of Agriculture

Animal and Plant Health Inspection Service

Quarantine Exemptions: EPA authorized the use of thymol on hard, nonporous surfaces associated with aircraft and associated loading equipment used to transport livestock, for disinfection from African swine fever and foot-and-mouth disease viruses. The authorization was effective October 3, 2023, to October 3, 2026.

EPA authorized the use of spinosad, incorporated into a wax matrix coating on bait stations for control of non-native tephritidae fruit fly species. The bait stations may be employed in US states and territories where the invasive fruit fly species are detected, and use of widespread pesticide spraying is not suitable (e.g., residential areas). The authorization was effective December 21, 2023 to December 31, 2026.

United States Department of Defense

Armed Forces Pest Management Board

Crisis exemption: EPA concurred upon a crisis exemption declared by the Armed Forces Pest Management Board for the use of permethrin to retreat military uniforms to protect against public health insects. The crisis exemption was effective November 6, 2023.

Public Health Exemption: EPA authorized the use of permethrin as a single retreatment on military uniforms to protect wearers from public health pests. The authorization was effective February 14, 2024, to September 30, 2024.

Authority: 7 U.S.C. 136 et seq.

Dated: June 5, 2024.
Charles Smith,
Director, Registration Division, Office of Pesticide Programs.

[FR Doc. 2024-13351 Filed 6-17-24; 8:45 am]

BILLING CODE 6560-50-P